FEDERAL TRADE COMMISSION

16 CFR Part 437

Business Opportunity Rule

AGENCY: Federal Trade Commission

ACTION: Extension of period to submit workshop comments.

SUMMARY: In a Federal Register notice published on April 24, 2009, 74 FR 18712, the FTC announced a workshop, to be held June 1, 2009, in the rulemaking proceeding to amend the Rule on Disclosure Requirements and Prohibitions Concerning Business Opportunities, 16 CFR Part 437 (“The Business Opportunity Rule”). Among other things, the Notice stated that workshop comments would be accepted until June 15, 2009. In response to a request received on June 11, 2009, for an extension of the comment period, the Commission has extended the workshop comment period until June 29, 2009.

DATES: Workshop comments in the Business Opportunity Rule amendment proceeding must be received on or before June 29, 2009.

ADDRESSES: Comments should respectively refer to “Business Opportunity Rule Workshop—Comment, Project No. P084405. “A comment may be filed electronically or in paper form. Please note that your comment— including your name and your state— will be placed on the public record of this proceeding, including on the publicly accessible FTC Website, at (http://www.ftc.gov/os/publiccomments.shtm).

Because comments will be made public, they should not include any sensitive personal information, such as an individual’s Social Security Number; date of birth; driver’s license number or other state identification number, or foreign country equivalent; passport number; financial account number; or credit or debit card number. Comments also should not include any sensitive health information, such as medical records or other individually identifiable health information. In addition, comments should not include any ‘‘[t]rade secret or any commercial or financial information which is obtained from any person and which is privileged or confidential. . . .,” as provided in Section 6(f) of the Federal Trade Commission Act (“FTC Act”), 15 U.S.C. 46(f), and FTC Rule 4.10(a)(2), 16 CFR 4.10(a)(2). Comments containing material for which confidential treatment is requested must be filed in paper form, must be clearly labeled “Confidential,” and must comply with FTC Rule 4.9(c), 16 CFR 4.9(c).¹

¹ The comment must be accompanied by an explicit request for confidential treatment, including the factual and legal basis for the request, and must identify the specific portions of the comment to be withheld from the public record. The request will be granted or denied by the Commission’s General Counsel, consistent with applicable law and the public interest. See FTC Rule 4.9(c), 16 CFR 4.9(c).

Because paper mail addressed to the FTC is subject to delay due to heightened security screening, please consider submitting your comments and requests to participate in electronic form. Comments filed in electronic form should be submitted by using the following weblink: (https://secure.commentworks.com/ftc-businessopportunityworkshop) (and following the instructions on the web-based form). To ensure that the Commission considers an electronic comment, you must file it on the web-based form at the weblink (https://secure.commentworks.com/ftc-businessopportunityworkshop). If this Notice appears at (http://www.regulations.gov/search/index.jsp), you may also file an electronic comment through that website. The Commission will consider all comments that regulations.gov forwards to it. You may also visit the FTC Website at http://www.ftc.gov/ to read the Notice and the news release describing it.

A comment filed in paper form should include the “Business Opportunity Rule Workshop—Comment, Project No. P084405“ reference both in the text and on the envelope, and should be mailed or delivered, with two complete copies, to the following address: Federal Trade Commission, Office of the Secretary, Room H-135 (Annex S), 600 Pennsylvania Avenue, NW, Washington, DC 20580. The FTC is requesting that any comment filed in paper form be sent by courier or overnight service, if possible, because U.S. postal mail in the Washington area and at the Commission is subject to delay due to heightened security precautions.

The FTC Act and other laws the Commission administers permit the collection of public comments to consider and use in this proceeding as appropriate. The Commission will consider all timely and responsive public comments that it receives, whether filed in paper or electronic form. Comments received will be available to the public on the FTC Website, to the extent practicable, at (http://www.ftc.gov/os/publiccomments.shtm). As a matter of discretion, the Commission makes every effort to remove home contact information for individuals from the public comments it receives before placing those comments on the FTC Website. More information, including routine uses permitted by the Privacy Act, may be found in the FTC’s privacy policy, at (http://www.ftc.gov/ftc/privacy.shtm).

Comments on any proposed filing, recordkeeping, or disclosure requirements that are subject to paperwork burden review under the Paperwork Reduction Act should additionally be submitted to: Office of Information and Regulatory Affairs, Office of Management and Budget (‘‘OMB’’), Attention: Desk Officer for Federal Trade Commission. Comments should be submitted via facsimile to (202) 395-5167 because U.S. postal mail at the OMB is subject to delays due to heightened security precautions.

FOR FURTHER INFORMATION CONTACT: Kathleen Benway (202) 326-2024, Division of Marketing Practices, Bureau of Consumer Protection, Federal Trade Commission, 600 Pennsylvania Avenue, NW, Room H-286, Washington, DC 20580.

SUPPLEMENTARY INFORMATION On April 24, 2009, the Commission announced in the Federal Register a workshop, to be held June 1, 2009, in the rulemaking proceeding to amend the Rule on Disclosure Requirements and Prohibitions Concerning Business Opportunities, 16 CFR Part 437 (“The Business Opportunity Rule”).² The announcement indicated that the workshop would focus on “issues relating to the effectiveness of the proposed revised Business Opportunities Disclosure Form attached to this Notice as a means of conveying material information to prospective purchasers of business opportunities.”³ The announcement further explained that, based on a consultant’s copy testing of an earlier version of the proposed a one-page pre-sale disclosure document, a revised version of the disclosure document, with improved clarity, readability, and understandability, was being proposed. The announcement stated that written comments would be accepted until June 15, 2009.

² 74 Fed. Reg. 18712 (Apr. 24, 2009).

³ Id. at 18713.

As indicated in the announcement, the workshop was conducted on June 1, 2009. On June 11, 2009, one of the panelists who had participated at the workshop requested a ten-day extension of the comment period.

The Commission believes that a brief extension of the comment period will not materially delay the completion of this rule amendment proceeding. Accordingly, the Commission has determined to extend the workshop comment period until June 29, 2009.

By direction of the Commission.

Donald S. Clark
Secretary.

[FR Doc. E9-14449 Filed 6-18-09: 8:45 am]

BILLING CODE 6750-01-S